DEPARTMENT OF THE INTERIOR

Bureau of Land Management

[AZ-050-00-1430-EU; AZA 29964, AZA 29970-AZA 29975, AZA 29977, AZA 29979-AZA 29983, AZA 29985-AZA 29989]

Arizona: Notice of Realty Action; Competitive Sale of Public Land in Quartzsite, La Paz County, AZ

Correction

In notice document 00-6530 appearing on page 14315 in the issue of March 16, 2000 make the following corrections:

In the second column, six lines from the bottom, the directions in “Sec. 23” should read as follows:

Sec. 23, N½SW¼,S½NE¼SW¼SW¼, NW¼SW¼SW¼,N½SE¼SW¼, SW¼ SE¼SW¼;

[FR Doc. C0-6530 Filed 6-1-00; 8:45 am]

BILLING CODE 1505-01-D

DEPARTMENT OF TRANSPORTATION

National Highway Traffic Safety Administration

49 CFR Part 571

[Docket No. NHTSA 00-7013; Notice 1]

RIN 2127-AG70

Federal Motor Vehicle Safety Standards; Occupant Crash Protection

Correction

In rule document 00-11577 beginning on page 30680 in the issue of Friday, May 12, 2000, make the following correction:

§571.208 [Corrected]

On page 30751, in the second column, in §571.208, in paragraph S15.3.2 (a), after the last line, insert the following equation:

[FR Doc. C0-11577 Filed 6-1-00; 8:45 am]

BILLING CODE 1505-01-D